DEPARTMENT OF TRANSPORTATION

Federal Railroad Administration

[Docket No. FRA-2010-005-N-5]

Railroad Safety Technology Program Grant Program

AGENCY: Federal Railroad Administration (FRA), Department of Transportation (DOT).

ACTION: Notice of funds availability, solicitation of applications.

SUMMARY: The Railroad Safety Technology Grant Program was first authorized under the Rail Safety Improvement Act of 2008 (RSIA). The program authorizes DOT to provide grants to passenger and freight rail carriers, railroad suppliers, and State and local governments for projects that have a public benefit of improved railroad safety and efficiency. The program originally made available $50 million in Federal funds. Due to the original grantees completing their grants, $550,000 became available from the original $50 million. This grant program has a maximum 80-percent Federal and minimum 20-percent grantee cost share (cash or in-kind) match requirement.

DATES: FRA will accept grant applications until February 5, 2014. Reviews will be conducted immediately following the solicitation close date. Selection announcements will be made 90 days after the solicitation closes.

ADDRESSES: Applications for grants under this program must be submitted electronically to Grants.gov (http://www.grants.gov) and must follow the detailed procedures in the grant application package online. The Grants.gov Web site allows organizations to find and electronically apply for competitive grant opportunities from all Federal grantmaking agencies. Any entity wishing to submit an application pursuant to this notice should immediately initiate the process of registering with Grants.Gov. Only grants submitted electronically through Grants.gov will be considered.

FOR FURTHER INFORMATION CONTACT: Dr. Mark Hartong, Scientific and Technical Advisor, FRA, at (202) 493-1332 or Mark.Hartong@dot.gov, or Mr. David Blackmore, Program Manager-Advanced Technologies, FRA, at (312) 835-3903 or David.Blackmore@dot.gov, to discuss the prospective idea, its potential responsiveness to the solicitation, and potential for FRA interest. Taking this action could forestall costly efforts by interested parties whose proposed work may not be of interest to FRA under this grant. Nontechnical inquiries should be directed to Ms. Jennifer Capps, Grants Officer, at (202) 493-0112, Jennifer.Capps@dot.gov.

SUPPLEMENTARY INFORMATION:

Authority and Funding: The Railroad Safety Technology Grant Program, authorized under Section 105 of the RSIA (Division A, Pub. L. 110-432) (49 U.S.C. 20158), allows for the appropriation of $50 million annually for fiscal years 2009 through 2013. The Transportation, Housing and Urban Development, and Related Agencies Appropriations Act of 2010 provided $50 million for this purpose. Due to the original grantees completing their grants, $550,000 became available from the original $50 million.

Eligible Organizations: Title 49 U.S.C. 20158 provides that “Grants shall be made under this section to eligible passenger and freight railroad carriers, railroad suppliers, and State and local governments for projects . . . that have a public benefit of improved safety and network efficiency.” To be eligible for assistance, entities must have either received approval of the Technology Implementation Plans (TIP) and Positive Train Control (PTC) Implementation Plans (PTCIP) required by 49 U.S.C. 20156(e)(2) and 20157, or demonstrate to the satisfaction of FRA that they are currently developing the required plans where applicable. Preference will be given in the following order:

1. Entities that have completed and received FRA approval of both their TIP and PTCIP.

2. Entities that have completed and received FRA approval of their PTCIP.

3. Entities that have submitted their PTCIP to FRA for approval.

4. Entities that have certified to FRA progress towards completion of their PTCIP and TIP.

5. All other entities.

Collaborative project submissions by freight and passenger carriers, suppliers, and State and local governments on eligible projects will be evaluated more favorably.

Eligible Projects: Grant awards will focus on using technologies or methods that are ready for deployment or that are of sufficient technical maturity that they can be made ready for deployment within 24 months of the award. FRA will give preference to collaborative projects by multiple railroads that have active railroad carrier and sponsoring public authority participation in the following order:

Projects that:

1. Facilitate sharing of PTC communications infrastructure and spectrum.

2. Support the resolution of PTC system interoperability issues.

3. Optimize PTC deployment on the core 2015 PTC territory.

4. All other projects.

Selection Criteria: Applications will be evaluated and ranked based on both technical and cost or price factors.

A. Technical Factors (75% overall weighting):

1. Responsiveness to Solicitation Intent and Requirements (20%): Degree to which proposal meets the conceptual intent and submission requirements of the solicitation.

2. Significance for Implementing Interoperable PTC Deployment and Fit with FRA's Mission (30%): Degree to which successful implementation of proposed idea would make interoperable PTC deployment more technically or economically practical—includes contribution to cost effectiveness, reliability, safety, availability, or maintainability, and fit within FRA primary mission ensuring the safety of the Nation's approximately 700 railroads.

3. Technical Merit (20%): Degree to which proposed ideas exhibit a sound scientific and engineering basis; how well the proposed ideas could be practically applied in, and would b]e compatible with, the railroad environment; and perceived likelihood of technical and practical success.

4. Key Personnel and Supporting Organization (15%): The technical qualifications and demonstrated experience of key personnel proposed to lead and perform the technical efforts, and qualifications of primary and supporting organizations to fully and successfully execute proposal plan within proposed timeframe and budget.

5. Collaborative Effort (15%): The degree to which proposed effort is supported by multiple entities and the applicability and availability of results to the larger railroad industry.

B. Cost/Price Factor (25% overall weighting):

1. Affordability and degree to which proposed effort appears to be a good value for the amount of funding requested. The reasonableness and realism of the proposed costs (60%).

2. The extent of proposed cost sharing or cost participation under the proposed effort (exclusive of the applicant's prior investment) (40%).

All evaluation factors, other than cost or price, when combined, are significantly more important than cost or price alone. Technical evaluation is appreciably more important than cost or price and, as such, greater consideration will be given to technical excellence rather than cost or price alone. An offer must be found acceptable under all applicable evaluation factors to be considered eligible for award. Awards will be made to responsible applicants whose offers provide the best value to the Government in terms of technical excellence, cost or price, and performance risk to include consistency and accord with the objectives of the solicitation and FRA's expressed areas of interest.

Requirements and Conditions for Grant Applications: Detailed application requirements and conditions may be found in the grant application guidance, FR-RSTG-13-001, or this solicitation on Grants.gov. Applications that do not meet the page-count requirements specified in the grant application guidance will not be considered.

Information Collection: The Office of Management and Budget (OMB) has approved the information collection associated with the Railroad Safety Technology Grant Program. The approval number for this collection of information is OMB No. 2130-0587.

Issued in Washington, DC, on November 4, 2013.
Robert C. Lauby,
Associate Administrator for Railroad Safety, Chief Safety Officer.

[FR Doc. 2013-26652 Filed 11-6-13; 8:45 am]

BILLING CODE 4910-06-P